DEPARTMENT OF HOUSING AND URBAN DEVELOPMENT

[Docket No. FR-5415-FA-25]

Announcement of Funding Awards; Choice Neighborhoods Grant Program for Fiscal Years (FY) 2010 and 2011

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department in a competition for funding under the FY2010 and FY2011 Notice of Funding Availability (NOFA) for the Choice Neighborhoods Grant Program. This announcement contains the consolidated names and addresses of award recipients under the Choice Neighborhoods Grant Program.

FOR FURTHER INFORMATION CONTACT: Caroline Clayton, Office of Public Housing Investments, Office of Public and Indian Housing, Department of Housing and Urban Development, 451 Seventh Street SW., Room 4130, Washington, DC 20410, telephone 202-401-8812. Hearing or speech-impaired individuals may access this number via TTY by calling the toll-free Federal Relay Service at 800-877-8339.

SUPPLEMENTARY INFORMATION: Building upon the successes achieved and the lessons learned from the HOPE VI program, the Choice Neighborhoods Program employs a comprehensive approach to community development centered on housing transformation. The program aims to transform neighborhoods of poverty into viable mixed-income neighborhoods with access to economic opportunities by revitalizing severely distressed public and assisted housing and investing and leveraging investments in well-functioning services, effective schools and education programs, public assets, public transportation, and improved access to jobs. Choice Neighborhoods grants primarily funds the transformation of public and/or HUD-assisted housing developments through preservation, rehabilitation, and management improvements as well as demolition and new construction. In addition, these funds can be used on a limited basis (and combined with other funding) for improvements to the surrounding community, public services, facilities, assets and supportive services. Choice Neighborhoods grant funds are intended to catalyze other investments that will be directed toward necessary community improvements. For FY2010 and FY2011, HUD awarded two types of grants for the Choice Neighborhoods Initiative: Planning Grants and Implementation Grants.

(1) Planning Grants enable those communities that are not yet able to fully undertake a successful neighborhood transformation to build the capacity to do so, with the Federal government supporting their endeavors and incentivizing local support. The Planning Grants enable more communities to create a rigorously-developed plan and build support necessary for neighborhood transformation to be successful.

(2) Implementation Grants provide a significant amount of Federal support to those communities that have undergone a comprehensive local planning process and are now moving forward with their “Transformation Plan” to redevelop the neighborhood.

The FY2010 Choice Neighborhoods Planning Grant awards totaled $4,000,000, and 17 applicants were selected for funding in a competition, the results of which were announced on March 18, 2011. At that time, and in addition to the applicant and Congressional notification processes, the grantees were posted to the HUD Web site at: http://portal.hud.gov/hudportal/HUD?src=/press/press_releases_media_advisories/2011/HUDNo.11-032 and http://portal.hud.gov/hudportal/HUD?src=/program_offices/public_indian_housing/programs/ph/cn/fy10funding. Applications were scored and selected for funding based on the selection criteria in the FY2010 Choice Neighborhoods Round 1 NOFA.

The FY2011 Choice Neighborhoods Planning Grant awards totaled $3,600,000, and 13 applicants were selected for funding in a competition, the results of which were announced on January 10, 2012. At that time, and in addition to the applicant and Congressional notification processes, the grantees were posted to the HUD Web site at: http://portal.hud.gov/hudportal/HUD?src=/press/press_releases_media_advisories/2012/HUDNo.12-003 and http://portal.hud.gov/hudportal/HUD?src=/program_offices/public_indian_housing/programs/ph/cn/planninggrants. Applications were scored and selected for funding based on the selection criteria in the FY2011 Choice Neighborhoods Planning Grant NOFA.

The FY2010 Choice Neighborhoods Implementation Grant awards totaled $122,270,000, which included funds from both the FY2010 and FY2011 Choice Neighborhoods appropriation. The FY2010 Choice Neighborhoods appropriation only allowed for the funding of three applications submitted in response to the FY2010 NOFA. In addition to the FY2010 Choice Neighborhoods appropriation, HUD used the FY2011 Choice Neighborhoods appropriation to fund two additional FY2010 applicants due to the need to award the FY2011 appropriation to communities as soon as possible, the importance of which was heightened by the late date of the FY2011 appropriation. The results of HUD's Choice Neighborhoods Implementation FY2010 selections were announced on August 31, 2011. At that time, and in addition to the applicant and Congressional notification processes, five grantees and the amount of each award was posted to the HUD Web site at: http://portal.hud.gov/hudportal/HUD?src=/press/press_releases_media_advisories/2011/HUDNo.11-181 and http://portal.hud.gov/hudportal/HUD?src=/program_offices/public_indian_housing/programs/ph/cn/fy10funding. Applications were scored and selected for funding based on the selection criteria in the FY2010 Choice Neighborhoods Round 1 and Round 2 NOFAs.

In accordance with Section 102 (a)(4)(C) of the Department of Housing and Urban Development Reform Act of 1989 (103 Stat. 1987, 42 U.S.C. 3545), the Department is publishing the names, addresses, and amounts of the Choice Neighborhoods awards made under these competitions in Appendix A to this document.

Dated: May 3, 2012.
Sandra B. Henriquez,
Assistant Secretary for Public and Indian Housing.

Appendix A

FY2010 Choice neighborhoods planning, grantee name and contact information | Amount funded | Project funded
Buffalo Municipal Housing Authority, 300 Perry Street, Buffalo, NY 14204-2270 | $250,000 | Commodore Perry Homes and Woodson Gardens; Commodore Perry Homes neighborhood.
Community Action Project of Tulsa County, Inc., 4606 S. Garnett, Suite 100, Tulsa, OK 74146-5216 | 250,000 | Brightwater Apartment Complex; Eugene Field neighborhood.
Housing Authority of Kansas City, Missouri, 301 East Armour Blvd., Suite 200, Kansas City, MO 64111-1254 | 250,000 | Chouteau Courts; Paseo Gateway neighborhood.
Housing Authority of the City of Albany, 521 Pine Avenue, Albany, GA 31701-2401 | 250,000 | McIntosh Homes; West Central Albany neighborhood.
Housing Authority of the City of Atlanta, 230 John Wesley Dobbs Avenue, Atlanta, GA 30303-2421 | 250,000 | University Homes; Atlanta University Center/Westside of Atlanta neighborhood.
Housing Authority of the City of Norwalk, 24½ Monroe Street, Norwalk, CT 06856-0508 | 250,000 | Washington Village; South Norwalk neighborhood.
Housing Authority of the City of Salisbury, NC, 200 S. Martin Luther King Jr. Ave., Salisbury, NC 28145-0159 | 170,000 | Civic Park Apartments; Westend neighborhood.
Housing Authority of the City of Wilmington, NC, 1524 South 16th Street, Wilmington, NC 28401-6426 | 200,000 | Hillcrest; Southside neighborhood.
Jackson Housing Authority, 125 Preston Street, Jackson, TN 38301-4888 | 167,000 | Allenton Heights; Allenton Heights neighborhood.
Jersey City Housing Authority, 400 U.S. Highway #1, Jersey City, NJ 07306-3123 | 250,000 | Montgomery Gardens; McGinley Square/Montgomery Corridor neighborhood.
Jubilee Baltimore, Inc., 1228 N. Calvert Street, Baltimore, MD 21202-3909 | 213,000 | Pedestal Gardens; Central West Baltimore neighborhood.
Memphis Housing Authority, 700 Adams Avenue, Memphis, TN 38105-5029 | 250,000 | Foote Homes; Vance Avenue neighborhood.
Mt. Vernon Manor, Inc., 3311 Wallace Street, Philadelphia, PA 19104-2047 | 250,000 | Mt. Vernon Manor Apartments; Mantua neighborhood.
Norfolk Redevelopment and Housing Authority, 201 Granby Street, Suite 401, Norfolk, VA 23510-1816 | 250,000 | Tidewater Park Gardens; Expanded St. Paul's Area neighborhood.
Northwest Louisiana Council of Governments, 401 Market Street, Shreveport, LA 71101-3280 | 250,000 | Galilee Majestic Arms and Naomi D. Jackson Heights; Allendale and Ledbetter Heights neighborhood.
Providence Housing Authority, 100 Broad Street, Providence, RI 02903-4145 | 250,000 | Manton Heights; Olneyville neighborhood.
San Antonio Housing Authority, 818 S. Flores, San Antonio, TX 78204-1430 | 250,000 | Wheatley Courts; Eastside neighborhood.

FY2010/2011 Choice neighborhoods implementation, grantee name and contact information | Amount funded | Project funded
City of Boston, 26 Court Street, 11th Floor, Boston, MA 02108-2501 | $20,500,000 | Woodledge/Morrant Bay; Dorchester neighborhood.
Housing Authority of New Orleans 4100 Touro Street, New Orleans, LA 70122-3143 | 30,500,000 | Iberville Housing Development; Iberville/Treme neighborhood.
Housing Authority of the City of Seattle, 120 6th Avenue North, Seattle, WA 98109 | 10,270,000 | Yesler Terrace; Yesler neighborhood.
McCormack Baron Salazar, Inc. (project in San Francisco, CA), 720 Olive Street, Suite 2500, St. Louis, MO 63101-2313 | 30,500,000 | Alice Griffith; Eastern Bayview neighborhood.
Preservation of Affordable Housing, Inc. (project in Chicago, IL), 40 Court Street, Suite 700, Boston, MA 02108-2202 | 30,500,000 | Grove Parc Plaza Apartments; Woodlawn neighborhood.

FY2011 Choice neighborhoods planning, grantee name and contact information | Amount funded | Project funded
Cincinnati Metropolitan Housing Authority, 16 W. Central Parkway, Cincinnati, OH 45202-7210 | $201,844 | English Woods; Fairmount neighborhood.
City of Springfield, 36 Court Street, Springfield, MA 01103-1699 | 300,000 | Marble Street Apartments, Concord Heights, and Hollywood Apartments I & II; South End neighborhood.
Columbus Metropolitan Housing Authority, 880 E. 11th Avenue, Columbus, OH 43211-2771 | 300,000 | Poindexter Village; Near East Side neighborhood.
Cuyahoga Metropolitan Housing Authority, 8120 Kinsman Road, Cleveland, OH 44104-4310 | 300,000 | Cedar Extension; Central Choice neighborhood.
District of Columbia Housing Authority, 1133 North Capitol Street NE., Washington, DC 20002-7599 | 300,000 | Kenilworth Courts and Kenilworth Parkside Resident Management Corporation units; Parkside-Kenilworth neighorhood.
Housing Authority of Savannah, 1407 Wheaton Street, Savannah, GA 31404-1730 | 300,000 | Robert Hitch Village and Fred Wessels Homes; East Savannah Gateway neighborhood.
Housing Authority of the City of Little Rock, 100 South Arch Street, Little Rock, AR 72201-2302 | 300,000 | Sunset Terrace and Elm Street; Southeast of Downtown neighborhood.
Housing Authority of the City of Meridian, 2425 E Street, Meridian, MS 39302-0870 | 242,500 | George M. Reese Court; East End neighborhood.
Housing Authority of the City of Wilson, P.O. Box 185, Wilson, NC 27893-4130 | 200,000 | Whitfield Homes; Center City neighborhood.
Housing Authority of the County of Sacramento, 801 12th Street, Sacramento, CA 95814-2947 | 300,000 | Twin Rivers; River District-Railyards neighborhood.
Opa-locka Community Development Corporation, 490 Opa-locka Boulevard, Suite 20, Opa-locka, FL 33054-3563 | 300,000 | The Gardens; Nile Gardens neighborhood.
Rockford Housing Authority, 223 S. Winnebago Street, Rockford, IL 61102-9904 | 300,000 | Fairgrounds Valley; Fairgrounds/Ellis Heights neighborhood.
Suffolk Redevelopment and Housing Authority, 530 E. Pinner Street, Suffolk, VA 23434-3023 | 255,656 | Parker Riddick and Cypress Manor; East Washington Street neighborhood.

[FR Doc. 2012-11305 Filed 5-9-12; 8:45 am]

BILLING CODE 4210-67-P